ENVIRONMENTAL PROTECTION AGENCY

[EPA-HQ-OLEM-2018-0105, FRL-10000-01-OMS]

Information Collection Request Submitted to OMB for Review and Approval; Comment Request; Oil Pollution Act Facility Response Plans (Renewal)

AGENCY: Environmental Protection Agency (EPA).

ACTION: Notice.

SUMMARY: The Environmental Protection Agency (EPA) has submitted an information collection request (ICR), Oil Pollution Act Facility Response Plans (EPA ICR Number 1630.14, OMB Control Number 2050-0135) to the Office of Management and Budget (OMB) for review and approval in accordance with the Paperwork Reduction Act. This is a proposed extension of the ICR, which is currently approved through July 31, 2022. Public comments were previously requested via the Federal Register on November 10, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 8, 2022.

ADDRESSES: Submit your comments, referencing Docket ID No. EPA-HQ-OLEM-2018-0105, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Proprietary Business Information (PBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: J. Troy Swackhammer, Office of Emergency Management, Mail Code 5104A, Environmental Protection Agency, 1200 Pennsylvania Ave. NW, Washington, DC 20460; telephone number: (202) 564-1966; email address: swackhammer.j-troy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The authority for EPA's facility response plan (FRP) requirements is derived from section 311(j)(5) of the Clean Water Act, as amended by the Oil Pollution Act of 1990. EPA's regulation is codified at 40 CFR 112.20 and 112.21 and related appendices. The purpose of an FRP is to help an owner or operator identify the necessary resources to respond to an oil discharge in a timely manner. If implemented effectively, the FRP will reduce the impact and severity of oil discharges and may prevent discharges because of the identification of risks at the facility. Although the owner or operator is the primary data user, EPA also uses the data in certain situations to ensure that facilities comply with the regulation and to help allocate response resources. State and local governments may use the data, which are not generally available elsewhere, and can greatly assist local emergency preparedness planning efforts. The EPA reviews all submitted FRPs and must approve FRPs for those facilities whose discharges may cause significant and substantial harm to the environment to ensure that facilities believed to pose the highest risk have planned for adequate resources and procedures to respond to oil discharges (See 40 CFR 112.20(f)(3) for further information about the criteria for significant and substantial harm.). No information collected under the FRP rule is expected to be confidential. One of the criteria necessary for information to be classified as “proprietary business information” (40 CFR 2.208) is that a business must show that it has previously taken reasonable measures to protect the confidentiality of the information and that it intends to continue to take such measures. EPA provides no assurances of confidentiality to facility owners or operators when they file their FRPs.

Form Numbers: None.

Respondents/affected entities: Owners or operators of facilities required to have Spill Prevention, Control, and Countermeasure (SPCC) plans under the Oil Pollution Prevention regulation (40 CFR part 112) and that, because of their location, could reasonably be expected to cause substantial harm to the environment.

Respondent's obligation to respond: Mandatory under section 311(j)(5) of the Clean Water Act, as amended by the Oil Pollution Act of 1990.

Estimated number of respondents: 16,027 (total).

Frequency of response: Annual.

Total estimated burden: 385,784 hours (per year). Burden is defined at 5 CFR 1320.03(b).

Total estimated cost: $17,751,436 (per year), includes $25,954 annualized capital or operation and maintenance costs.

Changes in Estimates: The burden estimate showed an annualized increase of 1,975 hours over the prior inventory due to the projected increase in the facility universe for the ICR renewal period. The capital cost increase reflects printing and travel costs based on the ICR consultations.

Courtney Kerwin,
Director, Regulatory Support Division.

[FR Doc. 2022-14497 Filed 7-6-22; 8:45 am]

BILLING CODE 6560-50-P